DEPARTMENT OF THE INTERIOR

Fish and Wildlife Service

[FWS-R5-R-2010-N228; BAC-4311-K9-S3]

Back Bay National Wildlife Refuge, City of Virginia Beach, VA; Final Comprehensive Conservation Plan and Finding of No Significant Impact for Environmental Assessment

AGENCY: Fish and Wildlife Service, Interior.

ACTION: Notice of availability.

SUMMARY: We, the U.S. Fish and Wildlife Service (Service), announce the availability of our final comprehensive conservation plan (CCP) and finding of no significant impact (FONSI) for the environmental assessment (EA) for Back Bay National Wildlife Refuge (NWR). In this final CCP, we describe how we will manage this refuge for the next 15 years.

ADDRESSES: You may view or obtain copies of the final CCP and FONSI by any of the following methods. You may request a hard copy or CD-ROM.

Agency Web Site: Download a copy of the document(s) at http://www.fws.gov/northeast/planning/Back%20Bay/ccphome.html.

Electronic mail: northeastplanning@fws.gov. Include “Back Bay Final CCP” in the subject line of the message.

U.S. Postal Service: Thomas Bonetti, Natural Resource Planner, U.S. Fish and Wildlife Service, 300 Westgate Center Drive, Hadley, MA 01035-9589.

In-Person Viewing or Pickup: Call 757-721-2412 to make an appointment during regular business hours at Back Bay NWR, 4005 Sandpiper Road, Virginia Beach, VA 23456-4325.

FOR FURTHER INFORMATION CONTACT: Jared Brandwein, Refuge Manager, Back Bay NWR, 4005 Sandpiper Road, Virginia Beach, VA 23456-4325; phone: 757-721-2412; electronic mail: jared_brandwein@fws.gov.

SUPPLEMENTARY INFORMATION:

Introduction

With this notice, we finalize the CCP process for Back Bay NWR. We started this plan's development by publishing a notice in the Federal Register (67 FR 30950; May 8, 2002), and then updating that notice (72 FR 8196, February 23, 2007). We released the draft CCP/EA to the public, announcing and requesting comments in a notice of availability in the Federal Register (75 FR 15721) on March 30, 2010.

Back Bay NWR, currently 9,035 acres, was established in 1938 by Executive Order 7907 “ * * * as a Refuge and breeding ground for migratory birds and other wildlife.” Another of the refuge's primary purposes for lands acquired under the Migratory Bird Conservation Act is “* * * use as an inviolate sanctuary, or for any other management purpose, for migratory birds.” The Emergency Wetlands Resources Act of 1986 also authorizes purchase of wetlands for the purpose of “* * * the conservation of the wetlands of the Nation in order to maintain the public benefits they provide and to help fulfill international obligations contained in various migratory bird treaties and conventions,” using money from the Land and Water Conservation Fund. In 1939, presidential proclamation closed 4,600 acres of open bay waters within the refuge boundary to the taking of migratory birds. The refuge includes 5 miles of oceanfront beach, a 900-acre freshwater impoundment complex, numerous bay islands, bottomland mixed forests, old fields, and freshwater wetlands adjacent to Back Bay and its tributary shorelines.

Although wildlife and habitat conservation come first on the refuge, the public can enjoy excellent opportunities to observe and photograph wildlife, fish, hunt, or participate in environmental education and interpretation. Current visitor facilities are primarily located in the eastern, barrier island portion of the refuge, where annual visitation is greater than 100,000. Back Bay NWR provides scenic trails, a visitor contact station, and, with advance scheduling, group educational opportunities. Outdoor facilities are open daily, dawn to dusk.

We announce our decision and the availability of the FONSI for the final CCP for Back Bay NWR in accordance with National Environmental Policy Act (40 CFR 1506.6(b)) requirements. We completed a thorough analysis of impacts on the human environment, which we included in the draft CCP/EA. The CCP will guide us in managing and administering Back Bay NWR for the next 15 years. Alternative B, as we described in the draft CCP/EA, is the foundation for the final CCP.

Background

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Administration Act.

CCP Alternatives, Including Selected Alternative

Our draft CCP/EA (75 FR 15721) addressed several key issues, including ways to improve access and opportunities for public use while ensuring the restoration and protection of priority resources, the evaluation of wilderness characteristics of refuge lands, the role of cooperative farming, and the management of invasive or nuisance species on the refuge.

To address these issues and develop a plan based on the purposes for establishing the refuge, and the vision and goals we identified, three alternatives were evaluated in the EA. The alternatives have some actions in common, such as encouraging research that benefits our resource decisions, maintaining a proactive law enforcement program, protecting cultural resources, continuing to acquire land from willing sellers within our approved refuge boundary, and distributing refuge revenue sharing payments to counties.

Other actions distinguish the alternatives. Alternative A, or the “No Action Alternative,” is defined by our current management activities. It serves as the base-line against which to compare the other two alternatives. Our habitat management and visitor services programs would not change under this alternative. We would continue to use the same tools and techniques, and not expand existing facilities.

Alternative B, the “Service-preferred Alternative,” reflects a management emphasis on enhancing conservation of wildlife through habitat management, as well as providing additional visitor opportunities on the refuge. Some of the major strategies proposed include: Opening up the forest canopy by selectively removing loblolly pine, sweetgum, and red maple; withdrawing the 1974 wilderness designation proposal for Long Island, Green Hills, and Landing Cove (2,165 acres); developing a canoe/kayak trail on the west side of the refuge; expanding the deer hunt; developing new hiking trails; and developing and designing a new headquarters/visitor contact station.

Alternative C features additional management that aims to restore (or mimic) natural ecosystem processes or functions to achieve refuge purposes. Alternative C focuses on using management techniques that would encourage forest growth and includes an increased focus toward the previously proposed wilderness areas. Strategies proposed include creating conditions that allow us to shift more resources from intensive management of the refuge impoundment system to the restoration of Back Bay-Currituck Sound. In addition, we propose to develop and design a new headquarters/visitor contact station that provides more office space than proposed for Alternative B; and we also plan to work with partners to provide a shuttle service (for a fee) from the new headquarters site to the barrier spit.

Comments

We solicited comments on the draft CCP/EA for Back Bay NWR from March 30 to May 1, 2010 (75 FR 15721). We received comments from 162 individuals, organizations, and State and Federal agencies on our draft plan via electronic mail, phone, and letters. All comments we received were evaluated. A summary of those comments and our responses to them is included as Appendix K in the CCP.

Selected Alternative

After considering the comments we received on our draft CCP/EA, we have selected Alternative B for implementation. Alternative B comprises the mix of actions that, in our professional judgment, works best towards achieving refuge purposes, our vision and goals, and the goals of other State and regional conservation plans. We also believe it most effectively addresses the key issues raised during the planning process. The basis of our decision is detailed in Appendix L of the CCP.

Public Availability of Documents

You can view or obtain documents as indicated under ADDRESSES.

Dated: November 17, 2010.
Salvatore M. Amato,
Acting Regional Director, Northeast Region, U.S. Fish and Wildlife Service, Hadley, MA 01035.

[FR Doc. 2011-97 Filed 1-6-11; 8:45 am]

BILLING CODE 4310-55-P